DEPARTMENT OF LABOR

Employment and Training Administration

[TA-W-61,828]

Freightliner, LLC, Cleveland Truck Plant; Cleveland, NC; Notice of Termination of Investigation

Pursuant to section 221 of the Trade Act of 1974, as amended, an investigation was initiated on July 16, 2007 in response to a worker petition filed by a company official on behalf of workers of Freightliner, LLC, Cleveland Truck Plant, Cleveland, North Carolina.

The Department issued a negative determination (TA-W-61,437) applicable to the petitioning group of workers on June 12, 2007. No new information or change in circumstances is evident which would result in a reversal of the Department's previous determination. Consequently, further investigation would serve no purpose, and the investigation has been terminated.

Signed at Washington, DC this 30th day of July 2007.
Richard Church,
Certifying Officer, Division of Trade Adjustment Assistance.

[FR Doc. E7-15533 Filed 8-8-07; 8:45 am]

BILLING CODE 4510-FN-P